DEPARTMENT OF COMMERCE

Patent and Trademark Office

Agency Information Collection Activities; Submission to the Office of Management and Budget (OMB) for Review and Approval; Comment Request; Initial Patent Applications

The United States Patent and Trademark Office (USPTO) will submit the following information collection request to the Office of Management and Budget (OMB) for review and clearance in accordance with the Paperwork Reduction Act of 1995, on or after the date of publication of this notice. The USPTO invites comments on this information collection renewal, which helps the USPTO assess the impact of its information collection requirements and minimize the public's reporting burden. Public comments were previously requested via the Federal Register on January 10, 2024 during a 60-day comment period (89 FR 1557). This notice allows for an additional 30 days for public comment.

Agency: United States Patent and Trademark Office, Department of Commerce.

Title: Initial Patent Applications.

OMB Control Number: 0651-0032.

Needs and Uses: The United States Patent and Trademark Office (USPTO) is required by Title 35 of the United States Code, including 35 U.S.C. 131, to examine applications for patents. The USPTO administers the patent statutes relating to examination through various rules in Chapter 37 of the Code of Federal Regulations (CFR), such as, for example, 37 CFR 1.16 through 1.84. Each patent applicant must provide sufficient information to allow the USPTO to properly examine the application to determine whether it meets the criteria set forth in the patent statutes and regulations for issuance as a patent. The patent statutes and regulations require that an application for patent include the following information:

(1) A specification containing a description of the invention and at least one claim defining the property right sought by the applicant;

(2) A drawing(s) or photograph(s), where necessary for an understanding of the invention;

(3) An oath or declaration signed by the applicant (under 35 U.S.C. 115(f), the time for filing the oath or declaration is no later than the date on which the issue fee for the patent is paid); and

(4) A filing fee.

Various types of patent applications are covered under this information collection:

• Noncontinuing, nonprovisional utility, plant and design applications,

• Provisional applications,

• Continuation/divisional applications of international applications,

• Continued prosecution applications (design), and

• Continuation/divisional and continuation-in-part applications of utility, plant, and design applications.

In addition, this information collection covers certain other papers filed by applicants, such as, for example, petitions to accept an unintentionally delayed priority or benefit claim, petitions to accept a filing by other than all of the inventors or a person not the inventor, and petitions requesting that applications filed under 37 CFR 1.495(b) be accorded a receipt date.

Furthermore, this information collection incorporates the lone item in 0651-0073 (Patent Law Treaty): petitions to restore the right of priority to a foreign application under 37 CFR 1.55(c) or the benefit of a prior-filed provisional application under 37 CFR 1.78(b). The petitions are used to extend the 12-month periods set forth in 35 U.S.C. 119(a) and (e) by an additional 2 months where there is an unintentional delay in filing an application claiming priority to a foreign application or the benefit of a provisional application. Once this information collection is renewed, and the petitions are added, 0651-0073 will be discontinued. For this 30-day notice, the non-hourly cost burdens have been adjusted due to an increase in the postage rate since the 60-day notice was published.

Forms: (AIA = America Invents Act; SB = Specimen Book)

• PTO/AIA/01 (Declaration (37 CFR 1.63) for Utility or Design Patent Application using an Application Data Sheet (37 CFR 1.76))

• PTO/AIA/01CN (Chinese (simplified) Language Declaration (37 CFR 1.63) for Utility or Design Application Using an Application Data Sheet (37 CFR 1.76))

• PTO/AIA/01DE (German Language Declaration (37 CFR 1.63) for Utility or Design Application Using an Application Data Sheet (37 CFR 1.76))

• PTO/AIA/01ES (Spanish Language Declaration (37 CFR 1.63) for Utility or Design Application Using an Application Data Sheet (37 CFR 1.76))

• PTO/AIA/01FR (French Language Declaration (37 CFR 1.63) for Utility or Design Application Using an Application Data Sheet (37 CFR 1.76))

• PTO/AIA/01IT (Italian Language Declaration (37 CFR 1.63) for Utility or Design Application Using an Application Data Sheet (37 CFR 1.76))

• PTO/AIA/01JP (Japanese Language Declaration (37 CFR 1.63) for Utility or Design Application Using an Application Data Sheet (37 CFR 1.76))

• PTO/AIA/01KR (Korean Language Declaration (37 CFR 1.63) for Utility or Design Application Using An Application Data Sheet (37 CFR 1.76))

• PTO/AIA/01NL (Dutch Language Declaration (37 CFR 1.63) for Utility or Design Application Using an Application Data Sheet (37 CFR 1.76))

• PTO/AIA/01RU (Russian Language Declaration (37 CFR 1.63) for Utility or Design Application Using An Application Data Sheet (37 CFR 1.76))

• PTO/AIA/01SE (Swedish Language Declaration (37 CFR 1.63) for Utility or Design Application Using an Application Data Sheet (37 CFR 1.76))

• PTO/AIA/02 (Substitute Statement in Lieu of an Oath or Declaration for Utility or Design Patent Application (35 U.S.C. 115(d) and 37 CFR 1.64))

• PTO/AIA/02CN (Chinese (Simplified) Language Substitute Statement in Lieu of an Oath or Declaration for Utility or Design Patent Application (35 U.S.C. 115(d) and 37 CFR 1.64))

• PTO/AIA/02DE (German Language Substitute Statement in Lieu of an Oath or Declaration for Utility or Design Patent Application (35 U.S.C. 115(d) and 37 CFR 1.64))

• PTO/AIA/02ES (Spanish Language Substitute Statement in Lieu of an Oath or Declaration for Utility or Design Patent Application (35 U.S.C. 115(d) and 37 CFR 1.64))

• PTO/AIA/02FR (French Language Substitute Statement in Lieu of an Oath or Declaration for Utility or Design Patent Application (35 U.S.C. 115(d) and 37 CFR 1.64))

• PTO/AIA/02IT (Italian Language Substitute Statement in Lieu of an Oath or Declaration for Utility or Design Patent Application (35 U.S.C. 115(d) and 37 CFR 1.64))

• PTO/AIA/02JP (Japanese Language Substitute Statement In Lieu Of An Oath Or Declaration For Utility Or Design Patent Application (35 U.S.C. 115(d) and 37 CFR 1.64))

• PTO/AIA/02KR (Korean Language Substitute Statement in Lieu of an Oath or Declaration for Utility or Design Patent Application (35 U.S.C. 115(d) and 37 CFR 1.64))

• PTO/AIA/02NL (Dutch Language Substitute Statement in Lieu of an Oath or Declaration for Utility or Design Patent Application (35 U.S.C. 115(d) and 37 CFR 1.64))

• PTO/AIA/02RU (Russian Language Substitute Statement in Lieu of an Oath or Declaration for Utility or Design Patent Application (35 U.S.C. 115(d) and 37 CFR 1.64))

• PTO/AIA/02SE (Swedish Language Substitute Statement in Lieu of an Oath or Declaration for Utility or Design Patent Application (35 U.S.C. 115(d) and 37 CFR 1.64))

• PTO/AIA/03 (Declaration (37 CFR 1.63) for Plant Patent Application using an Application Data Sheet (37 CFR 1.76))

• PTO/AIA/04 (Substitute Statement in Lieu of an Oath or Declaration for Plant Patent Application (35 U.S.C. 115(d) and 37 CFR 1.64))

• PTO/AIA/08 (Declaration for Utility or Design Patent Application (37 CFR 1.63))

• PTO/AIA/09 (Plant Patent Application (35 U.S.C. 161) Declaration (37 CFR 1.162))

• PTO/AIA/10 (Supplemental Sheet for Declaration (Additional Inventor(s), Supplemental Sheet for PTO/AIA/08, 09))

• PTO/AIA/11 (Substitute Statement Supplemental Sheet (Inventor(s), Supplemental Sheet for PTO/AIA/02, 04, 07))

• PTO/AIA/14 (Application Data Sheet 37 CFR 1.76)

• PTO/AIA/15 (Utility Patent Application Transmittal)

• PTO/AIA/18 (Design Patent Application Transmittal)

• PTO/AIA/19 (Plant Patent Application Transmittal)

• PTO/SB/01 (Declaration for Utility or Design Patent Application (37 CFR 1.63))

• PTO/SB/01A (Declaration (37 CFR 1.63) for Utility or Design Application Using an Application Data Sheet (37 CFR 1.76))

• PTO/SB/02 consisting of PTO/SB/02A (Declaration (Additional Inventor(s), Supplemental Sheet)) and PTO/SB/02B (Declaration—Supplemental Priority Data Sheet)

• PTO/SB/02CN (Declaration (Additional Inventors) and Supplemental Priority Data Sheets [2 pages] (Chinese Language Declaration for Additional Inventors)

• PTO/SB/02DE (Declaration (Additional Inventors) and Supplemental Priority Data Sheets [2 pages] (German Language Declaration for Additional Inventors))

• PTO/SB/02ES (Declaration (Additional Inventors) and Supplemental Priority Data Sheet [2 pages] (Spanish Language Declaration for Additional Inventors))

• PTO/SB/02FR (Declaration (Additional Inventors) and Supplemental Priority Data Sheet [2 pages] (French Language Declaration for Additional Inventors))

• PTO/SB/02IT (Declaration (Additional Inventors) and Supplemental Priority Data Sheet [2 pages] (Italian Language Declaration for Additional Inventors))

• PTO/SB/02JP (Japanese Language Substitute Statement in Lieu of an Oath or Declaration for Utility or Design Patent Application (35 U.S.C. 115(d) and 37 CFR 1.64))

• PTO/SB/02KR (Declaration (Additional Inventors) and Supplemental Priority Data Sheet [2 pages] (Korean Language Declaration for Additional Inventors))

• PTO/SB/02NL (Declaration (Additional Inventors) and Supplemental Priority Data Sheet [2 pages] (Dutch Language Declaration for Additional Inventors))

• PTO/SB/02RU (Declaration (Additional Inventors) and Supplemental Priority Data Sheet [2 pages] (Russian Language Declaration for Additional Inventors))

• PTO/SB/02SE (Declaration (Additional Inventors) and Supplemental Priority Data Sheet [2 pages] (Swedish Language Declaration for Additional Inventors))

• PTO/SB/02LR (Declaration Supplemental Sheet for Legal Representatives (35 U.S.C. 117) on Behalf of a Deceased or Incapacitated Inventor)

• PTO/SB/03 (Plant Patent Application (35 U.S. C. 161) Declaration (37 CFR 1.63))

• PTO/SB/04 (Supplemental Declaration for Utility or Design Patent Application (37 CFR 1.67))

• PTO/SB/05 (Utility Plant Application Transmittal)

• PTO/SB/06 (Patent Application Fee Determination Record (Substitute for Form PTO-875)

• PTO/SB/07 (Multiple Dependent Claim Fee Calculation Sheet (Substitute for Form PTO-1360; For Use with Form PTO/SB/06)

• PTO SB 16—Patent Center and PTO SB 16 (Provisional Application for Patent Cover Sheet)

• PTO/SB/17 (Fee Transmittal)

• PTO/SB/29 (For Design Applications Only: Continued Prosecution Application (CPA) Request Transmittal)

• PTO/SB/29A (For Design Applications Only: Receipt for Facsimile Transmitted CPA)

• PTO/SB/101 (Declaration for Utility or Design Patent Application (37 CFR 1.63) (Chinese Language Declaration)

• PTO/SB/102 (Declaration for Utility or Design Patent Application (37 CFR 1.63) (Dutch Language Declaration)

• PTO/SB/103 (Declaration for Utility or Design Patent Application (37 CFR 1.63) (German Language Declaration)

• PTO/SB/104 (Declaration for Utility or Design Patent Application (37 CFR 1.63) (Italian Language Declaration)

• PTO/SB/105 (Declaration for Utility or Design Patent Application (37 CFR 1.63) (French Language Declaration)

• PTO/SB/106 (Declaration for Utility or Design Patent Application (37 CFR 1.63) (Japanese Language Declaration)

• PTO/SB/107 (Declaration for Utility or Design Patent Application (37 CFR 1.63) (Russian Language Declaration)

• PTO/SB/108 (Declaration for Utility or Design Patent Application (37 CFR 1.63) (Swedish Language Declaration)

• PTO/SB/109 (Declaration for Utility or Design Patent Application (37 CFR 1.63) (Spanish Language Declaration)

• PTO/SB/110 (Declaration for Utility or Design Patent Application (37 CFR 1.63) (Korean Language Declaration)

• PTO/SB/445 (Petition to Accept an Unintentionally Delayed Claim Under 35 U.S.C. 119(e) (37 CFR 1.78(c)) and/or to Accept an Unintentionally Delayed Claim Under 35 U.S.C. 120, 121, 365(c), or 386(c) (37 CFR 1.78(e)) for the Benefit of a Prior-Filed Application)

• PTO/SB/458 (Petition to Accept an Unintentionally Delayed Claim under 35 U.S.C. 119(a)-(d) or (f), 365(a) or (b), or 386(a) or (b) for the Right of Priority to a Prior-Filed Foreign Application (37 CFR 1.55(e))

• PTO/SB/459 (Petition to Restore the Benefit of a Provisional Application (37 CFR 1.78(b)) or to Restore the Priority to a Foreign Application (37 CFR 1.55(c))

Type of Review: Extension and revision of a currently approved information collection.

Affected Public: Private sector.

Respondent's Obligation: Required to obtain or retain benefits.

Frequency: On occasion.

Estimated Number of Annual Respondents: 588,255 respondents.

Estimated Number of Annual Responses: 588,255 responses.

Estimated Time per Response: The USPTO estimates that the responses in this information collection will take the public approximately between 45 minutes (0.75 hours) and 40 hours to complete. This includes the time to gather the necessary information, create the document, and submit the completed request to the USPTO.

Estimated Total Annual Respondent Burden Hours: 12,543,215 hours.

Estimated Total Annual Respondent Non-Hourly Cost Burden: $1,156,505,487.

This information collection request may be viewed at www.reginfo.gov. Follow the instructions to view Department of Commerce, USPTO information collections currently under review by OMB.

Written comments and recommendations for this information collection should be submitted within 30 days of the publication of this notice on the following website, www.reginfo.gov/public/do/PRAMain. Find this particular information collection by selecting “Currently under 30-day Review—Open for Public Comments” or by using the search function and entering either the title of the information collection or the OMB Control Number, 0651-0032.

Further information can be obtained by:

• Email: InformationCollection@uspto.gov. Include “0651-0032 information request” in the subject line of the message.

• Mail: Justin Isaac, Office of the Chief Administrative Officer, United States Patent and Trademark Office, P.O. Box 1450, Alexandria, VA 22313-1450.

Justin Isaac,
Information Collections Officer, Office of the Chief Administrative Officer, United States Patent and Trademark Office.

[FR Doc. 2024-06592 Filed 3-27-24; 8:45 am]

BILLING CODE 3510-16-P